TENNESSEE VALLEY AUTHORITY

Sunshine Act Meetings

TIME AND DATE: 9 a.m. CT on November 7, 2024.

PLACE: Curris Center, Murray, Kentucky.

STATUS: Open.

MATTERS TO BE CONSIDERED:

Meeting No. 24-04

The TVA Board of Directors will hold a public meeting on November 7 at the Curris Center on the campus of Murray State University, 1415 Chestnut Street, Murray, Kentucky. The meeting will be called to order at 9 a.m. CT to consider the agenda items listed below. TVA management will answer questions from the news media following the Board meeting.

On November 6, at the Curris Center, the public may comment on any agenda item or subject at a Board-hosted public listening session which begins at 2 p.m. CT and will last until 4:00 p.m. Preregistration is required to address the Board.

Agenda

1. Approval of Minutes of the August 22, 2024 Board Meeting

2. Report of the People and Governance Committee

A. FY24 and FY25 Performance and Compensation

3. Report of the Audit, Risk, and Cybersecurity Committee

4. Report of the Operations and Nuclear Oversight Committee

5. Report of the External Stakeholders and Regulation Committee

A. Greater than 100 MW firm power arrangement with CTC Property LLC (xAI)

6. Report of the Finance, Rates, and Portfolio Committee

7. Information Items

A. Natural Gas Transportation Capacity Contract

B. Incentive Metrics

C. Amended TVA Board Practice Capital Projects Approvals

8. Report from President and CEO

CONTACT PERSON FOR MORE INFORMATION: For more information: Please call Ashton Davies, TVA Media Relations at (865) 632-6000, Knoxville, Tennessee. Anyone who wishes to comment on any of the agenda in writing may send their comments to: TVA Board of Directors, Board Agenda Comments, 400 West Summit Hill Drive, Knoxville, Tennessee 37902.

Dated: October 31, 2024.
Edward C. Meade,
Agency Liaison.

[FR Doc. 2024-25932 Filed 11-5-24; 11:15 am]

BILLING CODE 8120-08-P